DEPARTMENT OF COMMERCE

INTERNATIONAL TRADE ADMINISTRATION

[A-201-831]

Prestressed Concrete Steel Wire Strand from Mexico: Rescission of Antidumping Duty Administrative Review

AGENCY: Import Administration, International Trade Administration, Department of Commerce.

EFFECTIVE DATE: June 9, 2010.

FOR FURTHER INFORMATION CONTACT: Jennifer Meek, AD/CVD Operations, Office 1, Import Administration, International Trade Administration, U.S. Department of Commerce, 14th Street and Constitution Avenue, NW, Washington, DC 20230; telephone: (202) 482-2778.

SUPPLEMENTARY INFORMATION:

Background

On January 11, 2010, the Department of Commerce (“the Department”) published a notice announcing the opportunity to request an administrative review of the antidumping duty order on prestressed concrete steel wire strand (“PC Strand”) from Mexico for the period January 1, 2009 through December 31, 2009. See Antidumping or Countervailing Duty Order, Finding, or Suspended Investigation; Opportunity To Request Administrative Review, 75 FR 1333 (January 11, 2010). On January 29, 2010, in accordance with 19 CFR 351.213(b), the Department received a timely request from American Spring Wire Corp., Insteel Wire Products Co., and Sumiden Wire Products Corp., the petitioners, to conduct an administrative review of Aceros Camesa S.A. de C.V. and Deacero S.A. de C.V.

On March 4, 2010, the Department published a notice of initiation of an antidumping duty administrative review of Aceros Camesa S.A. de C.V. and Deacero S.A. de C.V. See Initiation of Antidumping Duty Administrative Review, 75 FR 9874 (March 4, 2010).

Rescission of Administrative Review

Pursuant to 19 CFR 351.213(d)(1), the Secretary will rescind an administrative review, in whole or in part, if the party that requested the review withdraws the request within 90 days of the date of publication of the notice of initiation of the requested review. On May 14, 2010, the petitioners withdrew their request for review within the 90-day period, and no other party requested a review. Therefore, pursuant to 19 CFR 351.213(d)(1), the Department is rescinding this administrative review.

Assessment

The Department will instruct U.S. Customs and Border Protection (“CBP”) to assess antidumping duties at the cash deposit rate in effect on the date of entry, for entries during the period January 1, 2009, through December 31, 2009. The Department intends to issue appropriate assessment instructions to CBP 15 days after publication of this notice of rescission of administrative review.

Notification to Importers

This notice serves as a reminder to importers of their responsibility under 19 CFR 351.402(f)(2) to file a certificate regarding the reimbursement of antidumping duties prior to liquidation of the relevant entries during this review period. Failure to comply with this requirement could result in the Secretary's presumption that reimbursement of antidumping duties occurred and the subsequent assessment of double antidumping duties.

Notification Regarding Administrative Protective Order

This notice serves as a final reminder to parties subject to administrative protective orders (“APO”) of their responsibility concerning the disposition of proprietary information disclosed under APO in accordance with 19 CFR 351.305(a)(3). Timely written notification of the return/destruction of APO materials or conversion to judicial protective order is hereby requested. Failure to comply with the regulations and terms of an APO is a sanctionable violation.

This notice is issued and published in accordance with sections 751(a)(1) and 777(i)(1) of the Tariff Act of 1930, as amended, and 19 CFR 351.213(d)(4).

Dated: June 2, 2010.
John M. Andersen,
Acting Deputy Assistant Secretary for Antidumping and Countervailing Duty Operations.

[FR Doc. 2010-13862 Filed 6-8-10; 8:45 am]

BILLING CODE 3510-DS-S